ENVIRONMENTAL PROTECTION AGENCY

40 CFR Part 261

[FRN-7112-6]

RIN: 2050-AE07

Correction to the Hazardous Waste Identification Rule (HWIR): Revisions to the Mixture and Derived-from Rules: Delay of Effective Date; Reopening of Comment Period

ACTION: Delay of effective date and reopening of comment period.

SUMMARY: EPA issued a direct final rule in the Federal Register on October 3, 2001 at 66 FR 50332 entitled Correction to the Hazardous Waste Identification Rule (HWIR): Revisions to the Mixture and Derived-from Rules; Direct Final Rule. During and after the comment period for that direct final rule, U.S. mail delivery to EPA's dockets was delayed due to concerns about possible contamination. This document delays the effective date of that direct final rule and reopens the comment period for thirty days to assure that EPA receives any comments that were mailed during the comment period but were not received by EPA by the end of the comment period. EPA is requesting that anyone who submitted comments during the previous comment period resubmit those comments as described below.

DATES: This action is made on December 3, 2001. The effective date of the Correction to the Hazardous Waste Identification Rule, amending 40 CFR 261.3 published in the Federal Register on October 3, 2001 at 66 FR 50332, is delayed for 60 days, from December 3, 2001 to a new effective date of February 1, 2002. That direct final rule will be effective on February 1, 2002 unless EPA receives adverse comment by January 2, 2002.

ADDRESSES: Please send an original and two copies of your comments referencing Docket number F-2001-WH3P-FFFFF to (1) if using regular U.S. Postal Service mail: RCRA Docket Information Center, Office of Solid Waste (5305W), U.S. Environmental Protection Agency Headquarters (EPA, HQ), 1200 Pennsylvania Avenue, NW., Washington, DC 20460-0002, or (2) if delivering in person, or using special delivery, such as overnight express service: RCRA Docket Information Center (RIC), Crystal Gateway One, 1235 Jefferson Davis Highway, First Floor, Arlington, Virginia 22202. Because of possible mail delays in the Washington DC area, please send a separate copy of each public comment either (1) via Internet email to rcra-docket@epamail.epa.gov, or (2) to David M. Friedman, U.S. EPA Region 3, Mail Code 3WC11, 1650 Arch Street, Philadelphia, PA 19103-2029. If sending comments via email, please make sure this electronic copy is in an ASCII format that doesn't use special characters or encryption. Cite the docket Number F-2001-WH3P-FFFFF in your electronic file.

The RCRA Information Center is located at Crystal Gateway One, 1235 Jefferson Davis Highway, First Floor, Arlington Virginia. If you would like to look at and copy supporting information for RCRA rules, please make an appointment with the RCRA Information Center by calling (703) 603-9230. Docket hours are from 9:00 A.M. to 4:00 P.M. Monday through Friday, except for Federal holidays. You may copy up to 100 pages from any regulatory document at no cost. Additional copies cost $0.15 per page.

FOR FURTHER INFORMATION CONTACT: For general information, contact the RCRA Call Center at (800) 424-9346 or TDD (800) 553-7672 (hearing impaired). In the Washington, DC, metropolitan area, call (703) 412-9810 or TDD (703) 412-3323.

For more detailed information on specific aspects of this rulemaking, contact Tracy Atagi, Office of Solid Waste 5304W, U.S. Environmental Protection Agency, 1200 Pennsylvania Avenue, NW., Washington, DC 20460-0002, 703-308-8672, atagi.tracy@epa.gov.

SUPPLEMENTARY INFORMATION: On October 3, 2001, EPA published in the Federal Register at 66 FR 50332 a direct final rule taking final action on two clarifying revisions to the mixture rule. The first revision reinserts certain exemptions to the mixture rule which were inadvertently deleted. The second revision clarifies that mixtures consisting of certain excluded wastes (commonly referred to as Bevill wastes) and listed hazardous wastes that have been listed solely for the characteristic of ignitability, corrosivity, and/or reactivity, are exempt once the characteristic for which the hazardous waste was listed has been removed.

EPA also published a separate document at 66 FR50379 (October 3, 2001) to serve as the proposal to Correction to the Hazardous Waste Identification Rule (HWIR): Revisions to the Mixture and Derived-from Rules if adverse comments were filed. The rule was scheduled to become effective on December 3, 2001 unless EPA received adverse comment by November 2, 2001. However, during and after the comment period for that rule, U.S. mail delivery to all EPA Headquarters offices in Washington, DC and Northern Virginia, including EPA's dockets, was delayed due to concerns about possible contamination. Because of the unexpected and unprecedented nature of this U.S. mail delay and the resulting uncertainty about whether EPA may have received any comments that were sent by U.S. mail, EPA believes that it is in the public interest to temporarily delay the effective date of that direct final rule for sixty days. The purpose of delaying the effective date is to reopen the comment period for thirty days to assure that EPA receives any comments that were submitted by U.S. mail during the comment period but were delayed due to U.S. mail delays.

EPA expects that all delayed mail will be delivered by the end of this thirty-day period. However, to assure that EPA receives the comments, anyone who submitted comments during the comment period for Correction to the Hazardous Waste Identification Rule (HWIR): Revisions to the Mixture and Derived-from Rules should resubmit those comments in accordance with the directions in the ADDRESSES section of this notice. If EPA receives adverse comment on the direct final rule, EPA will publish a timely withdrawal in the Federal Register informing the public that the rule will not take effect. EPA will address all public comments in a subsequent final rule based on the proposed rule.

To the extent that this action is subject to 5 U.S.C. 553, EPA's implementation of this action without opportunity for public comment, effective immediately upon publication today in the Federal Register, is based on the good cause exceptions in 5 U.S.C. 553(b)(B) and 553(d)(3). Seeking public comment is impracticable and unnecessary in light of the imminent effective date and the extraordinary nature of the delays which affected all U.S. mail directed to EPA Headquarters offices. A brief extension of the effective date is in the public interest because it will assure that all comments are received and that interested parties are not disadvantaged by these unique circumstances.

Under Executive Order 12866 (58 FR 51735, October 4, 1993), this action is not a “significant regulatory action” and is therefore not subject to review by the Office of Management and Budget and is not subject to Executive Order 13211, “Actions Concerning Regulations That Significantly Affect Energy Supply, Distribution, or Use” (66 FR 18355, May 22, 2001). In addition, this action does not impose any enforceable duty, contain any unfunded mandate, or impose any significant or unique impact on small governments as described in the Unfunded Mandates Reform Act of 1995 (Pub. L. 104-4). This action also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it does not alter the relationship or the distribution of power and responsibilities established by applicable statute. Because this action is not subject to notice-and-comment requirements under the Administrative Procedure Act or any other statute, it is not subject to the regulatory flexibility provisions of the Regulatory Flexibility Act (5 U.S.C. 601 et seq.). This action also is not subject to Executive Order 13045 (62 FR 19885, April 23, 1997) because EPA interprets Executive Order 13045 as applying only to those regulatory actions that are based on health or safety risks, such that the analysis required under section 5-501 of the Order has the potential to influence the regulation. This action is not subject to Executive Order 13045 because it does not establish an environmental standard intended to mitigate health or safety risks. Because this action does not involve technical standards, EPA did not consider the use of any voluntary consensus standards under the National Technology Transfer and Advancement Act of 1995 (15 U.S.C. 272 note). This action does not impose an information collection burden under the provisions of the Paperwork Reduction Act of 1995 (44 U.S.C. 3501 et seq.).

List of Subjects in 40 CFR Part 261

Environmental protection, Hazardous waste, Recycling, Waste treatment and disposal.

Dated: November 29, 2001.
Christine Todd Whitman,
Administrator.

[FR Doc. 01-29958 Filed 11-30-01; 8:45 am]

BILLING CODE 6560-50-P